DEPARTMENT OF JUSTICE

Antitrust Division

Notice Pursuant to the National Cooperative Research and Production Act of 1993—Development of Rapid, Reliable, and Economical Methods for Inspection and Monitoring of Highway Bridges

Notice is hereby given that, on February 24, 2009, pursuant to Section 6(a) of the National Cooperative Research and Production Act of 1993, 15 U.S.C. 4301 et seq. (“the Act”) Development of Rapid, Reliable, and Economical Methods for Inspection and Monitoring of Highway Bridges has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: The University of Texas at Austin, Austin, TX; National Instruments Corporation, Austin, TX; and Wiss, Janey, Elstner Associates, Inc., Northbrook, IL. The general area of Development of Rapid, Reliable, and Economical Methods for Inspection and Monitoring of Highway Bridges' planned activity is to conduct certain specified research involving the development of innovative technologies for inspecting, monitoring, and evaluating critical components of the nation's roadways and bridges (including the development of efficient, accurate, low-cost and reliable wireless sensors and related technologies that can provide quantitative assessments of the structural integrity or degree of deterioration of bridges and roadways).

Patricia A. Brink,
Deputy Director of Operations, Antitrust Division.

[FR Doc. E9-6372 Filed 3-25-09; 8:45 am]

BILLING CODE 4410-11-M